FEDERAL EMERGENCY MANAGEMENT AGENCY

Privacy Act Systems of Records; Notice of New System of Records

AGENCY: Federal Emergency Management Agency (FEMA).

ACTION: Notice of new system of records.

SUMMARY: Pursuant to the Privacy Act of 1974 (5 U.S.C. 552a), the Federal Emergency Management Agency (FEMA) proposes to establish a new system of records entitled “Citizen Corps Database Tracking System, FEMA/VOL-1,” and proposes routine uses for the new system. Subsections 552a(e)(4) and (11) of title 5, United States Code, provide that the public be given a 30-day period in which to comment on routine uses. The Office of Management and Budget (OMB), which has oversight responsibility under the Act, requires a 40-day period in which to review the proposed systems. The public, OMB and Congress are invited to comment on the proposed system of records.

DATES: The proposed system of records will be effective June 21, 2002, unless comments are received that result in a contrary determination.

ADDRESSES: Submit written comment to Rules Docket Clerk, Federal Emergency Management Agency, Office of General Counsel, room 840, 500 C Street SW., Washington, DC 20472, or (e-mail) rules@fema.gov.

FOR FURTHER INFORMATION CONTACT: Edward Broyles at (202) 646-3961.

SUPPLEMENTARY INFORMATION: This new system of records contains information gathered by the Citizen Corps, which is part of the USA Freedom Corps established by President George W. Bush under Executive Order 13254, January 29, 2002. The Corps helps individuals to become involved in volunteer activities. FEMA is the lead federal agency for Citizen Corps activities. The Citizen Corps coordinates efforts and channels information to participating organizations, including the Community Emergency Response Team, Neighborhood Watch, Volunteers in Police Service, Medical Reserve Corps, Operation TIPS, and Citizen Corps Councils.

Dated: April 29, 2002.
Michael D. Brown,
General Counsel.

FEMA/VOL-1

SYSTEM NAME:

Citizen Corps Database.

SECURITY CLASSIFICATION:

Unclassified.

SYSTEM LOCATION:

FEMA Headquarters, Mezzanine Server Room, 500 C Street, SW., Washington, DC 20472.

CATEGORIES OF INDIVIDUALS COVERED BY THE SYSTEM:

The system covers those individuals who express an interest in Citizen Corps programs or activities. Corps programs include Community Emergency Response Teams, Neighborhood Watch, Volunteers in Police Service, Medical Reserve Corps, Operation TIPS, and Citizen Corps Councils.

CATEGORIES OF RECORDS IN THE SYSTEM:

Each file or entry contains an interested individual's name, mailing address, e-mail address, and Volunteer Program area of interest. The database contains and tracks names of each individual and the date of expression of interest, type of interest expressed (e.g., Community Emergency Response Team, Neighborhood Watch, Citizen Corps Councils), and similar information.

AUTHORITY FOR MAINTENANCE OF THE SYSTEM:

5 U.S.C. 301; Section 2, Executive Order 13254, January 29, 2002.

PURPOSE(S):

The Citizens Corps, through its Internet site at www.citizencorps.gov, allows individuals to indicate their interest in specific voluntary programs. Information concerning those desired activities is then disseminated by FEMA to the appropriate organization for further processing or response. The Citizens Corps coordinates efforts among several organizations, including the Community Emergency Response Team, Neighborhood Watch, Volunteers in Police Service, Medical Reserve Corps, Operation TIPS, and Citizen Corps Councils. In addition, these entities may express an interest in sharing their respective contact and similar information with other participants in these programs.

ROUTINE USE OF RECORDS MAINTAINED IN THE SYSTEM, INCLUDING CATEGORIES OF USERS AND THE PURPOSES OF SUCH USES:

Information from this file may be disclosed:

(a) To appropriate Federal, State, or local law enforcement agencies in connection with actual or potential violation of criminal or civil laws, statutes, or regulations, or in conjunction with investigative or litigation responsibilities of the recipient agency;

(b) In a proceeding before a court or adjudicative body before which FEMA is authorized to appear when any of the following is a party to litigation or has an interest in litigation and such records are determined by FEMA to be arguably relevant to the litigation: FEMA or any of its subdivision; any FEMA employee in his or her official capacity, or in his or her individual capacity where FEMA agrees to represent the employee; or the United States where FEMA determines that the litigation is likely to affect it or any of its subdivisions;

(c) To the USA Freedom Corps, Executive Office of the President;

(d) To organizations or activities that the respondent indicates as being within the respondent's areas of interest (e.g., Community Emergency Response Team participation);

(e) To a Member of Congress or staff acting upon the Member's behalf when the Member or staff requests the information on behalf of and at the request of the individual who is the subject of the record; and

(f) To the National Archives and Records Administration and to the General Services Administration in records management inspections conducted under the authority of 44 U.S.C. 2904 and 2906.

DISCLOSURE TO CONSUMER REPORTING AGENCIES:

Records in this system are not appropriate for disclosure to consumer reporting agencies.

POLICIES AND PRACTICES FOR STORING, RETRIEVING, ACCESSING, RETAINING, AND DISPOSING OF RECORDS IN THE SYSTEM:

Storage:

Computerized records are stored in a database server in a secured file room.

Retrievability:

Records are retrieved by name, mailing address, e-mail address or Volunteer Program(s) in which the respondent indicates an interest.

Safeguards:

The Database Administrator controls access to the files. The files are stored in a secure server room at Agency headquarters. Records are maintained in accordance with federal computer security standards.

Retention and disposal:

FEMA will submit a request to the National Archives and Records Administration for disposition authority for this system of records. The request will recommend a retention period of 120 days and seek approval for records to be purged from the system after the period.

SYSTEM MANAGER(S) AND ADDRESS:

Rebecca Rutledge, FEMA Headquarters, Mezzanine Room, 500 C Street SW, Washington, DC 20472.

NOTIFICATION PROCEDURE:

Same as “Record access procedures.”

RECORD ACCESS PROCEDURES:

Make all requests for access in writing, and clearly mark letter and envelope “Privacy Act Request.” Clearly indicate name of the requester, nature of the record sought, approximate dates of the records, and provide the required verification of identity. Direct all requests to the system manager identified above, Attention: Freedom of Information/Privacy Act Officer, and provide a return address for transmitting the information.

Contesting record procedures:

Direct all requests to contest or amend information to the system manager in accordance with the procedures outlined above. State clearly and concisely the information being contested, the reasons for contesting it, and the proposed amendment to the information sought.

RECORD SOURCE CATEGORIES:

Records are generated by FEMA based on individual responses by users.

EXEMPTION CLAIMED FOR THE SYSTEM:

None.

[FR Doc. 02-11253 Filed 5-6-02; 8:45 am]

BILLING CODE 6718-32-M